DEPARTMENT OF DEFENSE

Department of the Army

Corps of Engineers; Notice of Availability for an Addendum to the Final Environmental Impact Statement and a Draft General Conformity Determination for the Berths 136-147 [TraPac] Container Terminal Project, Port of Los Angeles, Los Angeles County, CA

AGENCY: Department of the Army—U.S. Army Corps of Engineers, DoD.

ACTION: Notice of availability.

SUMMARY: In November 2007, the U.S. Army Corps of Engineers, Los Angeles District, Regulatory Division (Corps) in coordination with the Los Angeles Harbor Department (LAHD) completed and published a joint Final Environmental Impact Statement/Environmental Impact Report (EIS/EIR) for the Berths 136-147 [TraPac] Container Terminal Project (Project) in the Port of Los Angeles. The Corps is currently processing a permit application submitted by the LAHD to undertake various activities and construct structures in and over navigable waters and waters of the United States associated with the Project. Issuance of a Corps permit is a Federal action, which must comply with the air quality conformity requirements specified in section 176(c) of the Clean Air Act.

An addendum to the Final EIS (Addendum) has been prepared that revises the conformity statement included in section 3.2 of the Final EIS and incorporates the Draft General Conformity Determination, as Appendix O to the Final EIS, for the Federal action associated with the Project. The general conformity regulations (40 CFR Part 93 Subpart B) allow general conformity determinations to be included in an EIS, but inclusion of these determinations is not required and can be separately noticed. The Addendum and General Conformity Determination are available for public review during the next 30 days at the Los Angeles Harbor Department, 425 South Palos Verdes Street, San Pedro, California, on the Port's Web site: http://www.portoflosangeles.org, and on the Corps' Web site: http://www.spl.usace.army.mil/regulatory/POLA.htm (scroll down to the links under TraPac Project). In addition, they are available at the following libraries: L.A. Public Library, Central Branch, 630 West 5th Street, Los Angeles, California; L.A. Public Library, San Pedro Branch, 921 South Gaffey Street, San Pedro, California; and L.A. Public Library, Wilmington Branch, 1300 North Avalon, Wilmington, California.

Any comments received by the Corps on the Addendum and Draft General Conformity Determination during the next 30 days will be considered fully before the Corps makes a Final General Conformity Determination and finalizes the Record of Decision (ROD) for the Federal action associated with the Project. The Corps will publish a notice of a Final General Conformity Determination in the Federal Register within 30 days of rendering a final decision. The public can request from the Corps copies of the ROD, which includes responses to comments on the Final EIS, Addendum, and Draft General Conformity Determination, following publication of a Final General Conformity Determination and upon execution of the ROD.

FOR FURTHER INFORMATION CONTACT: Questions or comments concerning the Addendum or the Draft General Conformity Determination should be directed to Dr. Spencer D. MacNeil, Senior Project Manager, North Coast Branch, Regulatory Division, U.S. Army Corps of Engineers, 2151 Alessandro Drive, Suite 110, Ventura, California 93001, (805) 585-2152.

SUPPLEMENTARY INFORMATION: None.

Aaron O. Allen,
Acting Chief, Regulatory Division, Los Angeles District.

[FR Doc. E8-26977 Filed 11-13-08; 8:45 am]

BILLING CODE 3710-KF-P